DEPARTMENT OF ENERGY

[Docket Nos. 13-04-LNG and 16-109-LNG]

Lake Charles LNG Export Company, LLC; Application for an Amendment To Extend the Commencement of Operations Deadline in Long-Term Authorizations To Export Liquefied Natural Gas

AGENCY: Office of Fossil Energy and Carbon Management, Department of Energy.

ACTION: Notice of application.

SUMMARY: The Office of Fossil Energy and Carbon Management (FECM) (formerly the Office of Fossil Energy) of the Department of Energy (DOE) gives notice (Notice) of receipt of an application (Extension Application), filed on April 17, 2025, by Lake Charles LNG Export Company, LLC (Lake Charles LNG Export). Lake Charles LNG Export asks DOE to amend its existing authorizations to export domestically produced liquefied natural gas (LNG) to non-free trade agreement countries set forth in DOE/FE Order Nos. 3868 and 4010 (both as amended)—specifically, to extend the current commencement of export operations deadline in both orders. Lake Charles LNG Export filed the Extension Application under the Natural Gas Act (NGA).

DATES: Protests, motions to intervene, or notices of intervention, as applicable, and written comments are to be filed electronically as detailed in the Public Comment Procedures section no later than 4:30 p.m., Eastern time, July 2, 2025.

ADDRESSES:

Electronic Filing by email (Strongly encouraged): fergas@hq.doe.gov.

Postal Mail, Hand Delivery, or Private Delivery Services (e.g., FedEx, UPS, etc.), U.S. Department of Energy (FE-34), Office of Regulation, Analysis, and Engagement, Office of Fossil Energy and Carbon Management, Forrestal Building, Room 3E-056, 1000 Independence Avenue SW, Washington, DC 20585

Due to potential delays in DOE's receipt and processing of mail sent through the U.S. Postal Service, we encourage respondents to submit filings electronically to ensure timely receipt.

FOR FURTHER INFORMATION CONTACT:

Jennifer Wade or Peri Ulrey, U.S. Department of Energy (FE-34), Office of Regulation, Analysis, and Engagement, Office of Resource Sustainability, Office of Fossil Energy and Carbon Management, Forrestal Building, Room 3E-042, 1000 Independence Avenue SW, Washington, DC 20585, (202) 586-4749 or (202) 586-7893, jennifer.wade@hq.doe.gov or peri.ulrey@hq.doe.gov

Cassandra Bernstein, U.S. Department of Energy (GC-76), Office of the Assistant General Counsel for Energy Delivery and Resilience, Forrestal Building, Room 6D-033, 1000 Independence Avenue SW, Washington, DC 20585, (240) 780-1691, cassandra.bernstein@hq.doe.gov

SUPPLEMENTARY INFORMATION: Previously, DOE authorized Lake Charles LNG Export to export domestically produced LNG by vessel from the Lake Charles Terminal, located in Lake Charles, Louisiana, to any country with which the United States has not entered into a free trade agreement (FTA) requiring national treatment for trade in natural gas, and with which trade is not prohibited by U.S. law or policy (non-FTA countries), pursuant to NGA section 3(a),¹ under the following orders:

¹ 15 U.S.C. 717b(a).

• DOE/FE Order No. 3868, as amended (Docket No. 13-04-LNG), in a volume equivalent to 730 billion cubic per year (Bcf/yr) of natural gas, through December 31, 2050; ² and

² Lake Charles LNG Export Co., LLC, DOE/FE Order No. 3868, Docket No. 13-04-LNG, Opinion and Order Granting Long-Term, Multi-Contract Authorization to Export Liquefied Natural Gas by Vessel From the Lake Charles Terminal in Calcasieu Parish, Louisiana to Non-Free Trade Agreement Nations (July 29, 2016), amended by DOE/FE Order No. 3868-A (Oct. 6, 2020) (extending export commencement deadline in non-FTA authorization), requested amendment denied by DOE/FECM Order No. 3868-B (Apr. 21, 2023) (denying second commencement extension), reh'g denied, DOE/FECM Order No. 3868-C (June 21, 2023), amended by DOE/FECM Order No. 3868-D (Nov. 1, 2023) (extending export term).

• DOE/FE Order No. 4010, as amended (Docket No. 16-109-LNG), in a volume equivalent to 121 Bcf/yr of natural gas, through December 31, 2050.³

³ Lake Charles LNG Export Co., LLC, DOE/FE Order No. 4010, Docket No. 16-109-LNG, Opinion and Order Granting Long-Term, Multi-Contract Authorization to Export Liquefied Natural Gas by Vessel From the Lake Charles Terminal in Lake Charles, Louisiana, to Free Trade and Non-Free Trade Agreement Nations (June 29, 2017), amended by Order No. 4010-A (Oct. 6, 2020) (amending the term of FTA export authorization and extending export commencement deadline in non-FTA authorization), requested amendment denied by DOE/FECM Order No. 4010-B (Apr. 21, 2023) (denying second commencement extension), reh'g denied DOE/FECM Order No. 4010-C (June 21, 2023), amended by DOE/FECM Order No. 4010-D (Nov. 1, 2023) (extending export term). The portion of this order authorizing Lake Charles LNG Export to export LNG to FTA countries is not subject to this Notice. See 15 U.S.C. 717b(c).

Both orders originally required Lake Charles LNG Export to “commence export operations using the planned liquefaction facilities no later than seven years from the date of issuance of this Order”—i.e., by July 29, 2023, for Order No. 3868, and by June 29, 2024, for Order No. 4010—but, in October 2020, those deadlines were extended to December 16, 2025, for both orders.⁴ In the Extension Application, Lake Charles LNG Export asks DOE to extend the current “commencement of export operations deadline” in both orders from December 16, 2025, to December 31, 2031.⁵

⁴ See supra notes 2-3 (citing DOE/FE Order No. 3868-A and 4010-A, respectively).

⁵ Lake Charles LNG Export Co., LLC, Application for an Amendment to Extend the Commencement of Operations Deadline and Request for Expedited Action, Docket Nos. 13-04-LNG and 16-109-LNG, at 1 (Apr. 17, 2025) [hereinafter Ext. App.] (requesting that DOE approve the Extension Application on or before June 16, 2025).

In support of the extension request, Lake Charles LNG Export asserts that it is unable to meet the current commencement of export operations deadline due to circumstances outside of its control. Lake Charles LNG Export further states that, on April 11, 2025, it (together with its affiliates Lake Charles LNG Company, LLC and Trunkline Gas Company, LLC, and collectively, Lake Charles LNG Export) applied to the Federal Energy Regulatory Commission (FERC) for an extension of the existing FERC construction deadline for the Lake Charles LNG Liquefaction Project and related Pipeline Modifications Project (collectively, Projects) to December 31, 2031 (the same date as the requested extension in this proceeding).⁶ DOE takes administrative notice that, on May 8, 2025, FERC issued a letter order granting Lake Charles LNG Export's requested extension of time “until and including December 31, 2031,” to construct the Projects and make them available for service.⁷

⁶ See Ext. App. at 20.

⁷ Lake Charles LNG Co., LLC, et al., Letter Order, FERC Docket Nos. CP14-119, et al. (May 8, 2025), https://elibrary.ferc.gov/eLibrary/filelist?accession_num=20250508-3019 (granting request for extension of time).

In the Extension Application, Lake Charles LNG Export also identifies the actions it has taken to advance the Liquefaction Project and to continue construction. Lake Charles LNG Export maintains that it requests only “a change in the timing” to commence export operations and “does not request any changes to the nature of the Project.” ⁸

⁸ Ext. App. at 33.

Additional details can be found in the Extension Application, posted on the DOE website at: https://www.energy.gov/sites/default/files/2025-04/Lake;%20Charles;%20LNG;%20Export;%20DOE;%20Extension;%20Application;%20April%2017%202025.pdf.

DOE Evaluation

In reviewing the Extension Application, DOE will consider any issues required by law or policy under NGA section 3(a), DOE's regulations, and any other documents deemed appropriate.

Parties that may oppose the Extension Application should address these issues and documents in their comments and/or protests, as well as other issues deemed relevant to the Extension Application.

The National Environmental Policy Act (NEPA), 42 U.S.C. 4321 et seq., requires DOE to give appropriate consideration to the environmental effects of its proposed decisions. No final decision will be issued in this proceeding until DOE has met its environmental responsibilities.

Public Comment Procedures

In response to this Notice, any person may file a protest, comments, or a motion to intervene or notice of intervention, as applicable, addressing the Extension Application. Interested parties will be provided 30 days from the date of publication of this Notice in which to submit comments, protests, motions to intervene, or notices of intervention. The public previously was given an opportunity to intervene in, protest, and comment on Lake Charles LNG Export's long-term non-FTA applications in Docket Nos. 13-04-LNG and 16-109-LNG. Therefore, DOE will not consider comments or protests that do not bear directly on the Extension Application.

Any person wishing to become a party to this proceeding evaluating the Extension Application must file a motion to intervene or notice of intervention.⁹ The filing of comments or a protest with respect to the Extension Application will not serve to make the commenter or protestant a party to this proceeding, although protests and comments received from persons who are not parties will be considered in determining the appropriate action to be taken on the Extension Application. All protests, comments, motions to intervene, or notices of intervention must meet the requirements specified by DOE's regulations in 10 CFR part 590, including the service requirements.

⁹ Status as an intervenor in prior proceeding(s) in the Lake Charles LNG Export dockets does not continue to this proceeding evaluating the Extension Application, and therefore any person interested in intervening to address the Extension Application must file a new motion to intervene (or notice of intervention, as applicable). 10 CFR 590.303.

Filings may be submitted using one of the following methods:

(1) Submitting the filing electronically at fergas@hq.doe.gov;

(2) Mailing the filing to the Office of Regulation, Analysis, and Engagement at the address listed in the ADDRESSES section; or

(3) Hand delivering the filing to the Office of Regulation, Analysis, and Engagement at the address listed in the ADDRESSES section.

For administrative efficiency, DOE prefers filings to be filed electronically. All filings must include a reference to “Docket Nos. 13-04-LNG and 16-109-LNG” or “Lake Charles LNG Export Company, LLC Extension Application” in the title line.

For electronic submissions: Please include all related documents and attachments (e.g., exhibits) in the original email correspondence. Please do not include any active hyperlinks or password protection in any of the documents or attachments related to the filing. All electronic filings submitted to DOE must follow these guidelines to ensure that all documents are filed in a timely manner.

The Extension Application, and any filed protests, motions to intervene, notices of intervention, and comments will be available electronically on the DOE website at www.energy.gov/fecm/regulation.

A decisional record on the Extension Application will be developed through responses to this Notice by parties, including the parties' written comments and replies thereto. Additional procedures will be used as necessary to achieve a complete understanding of the facts and issues. If an additional procedure is scheduled, notice will be provided to all parties. If no party requests additional procedures, a final Order may be issued based on the official record, including the Extension Application and responses filed by parties pursuant to this Notice, in accordance with 10 CFR 590.316.

Signed in Washington, DC, on May 27, 2025.
Amy Sweeney,
Director, Office of Regulation, Analysis, and Engagement, Office of Resource Sustainability.

[FR Doc. 2025-09881 Filed 5-30-25; 8:45 am]

BILLING CODE 6450-01-P